FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 18, 2005.

A. Federal Reserve Bank of Kansas City (Donna J. Ward, Assistant Vice President) 925 Grand Avenue, Kansas City, Missouri 64198-0001:

1. Aaron G. Buerge, Springfield, Missouri and Justin B. Buerge, Joplin, Missouri, individually and as co-trustees of the Buerge Family Trust, to retain control of Financial Enterprises, Inc., and thereby control shares of First National Bank of Clinton, both of Clinton, Missouri.

2. Marvin J. Carter and Donald C. Stamps, both of Lawton, Oklahoma, trustees of the 2000 Green Family Trust, to acquire B.O.E. Bancshares, Inc., and thereby control shares of Liberty National Bank, both of Lawton, Oklahoma.

Board of Governors of the Federal Reserve System, September 28, 2005.
Robert deV. Frierson,
Deputy Secretary of the Board.

[FR Doc. 05-19783 Filed 10-3-05; 8:45 am]

BILLING CODE 6210-01-S